DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative needs of the Bureau of Land Management. The lands we surveyed are:

The plat representing the dependent resurvey of portions of the south and west boundaries, and portions of the subdivisional lines, and the subdivision of sections 31 and 32, in T. 13 S., R. 26 E., Boise Meridian, Idaho, was accepted July 11, 2002.

The plat representing the entire survey record of the dependent resurvey of a portion of the west boundary and the subdivisional lines, and the subdivision of section 18, in T. 13 N., R. 20 E., Boise Meridian, Idaho, was accepted July 31, 2002.

The plats representing the dependent resurvey of portions of the west boundary and subdivisional lines, and a metes-and-bounds survey of a portion of the Craters of the Moon National Monument in sections 10, 15, 16, 19, 20, and 21, in T. 8 S., R. 28 E., Boise Meridian, Idaho, were accepted August 21, 2002.

The plats representing the dependent resurvey of a portion of the subdivisional lines, and the subdivision of section 2, the survey of a portion of the 2000 meanders of the right bank of the Henrys Fork of the Snake River in section 2, and a metes-and-bounds survey in section 2, in T. 5 N., R. 38 E., and the corrective dependent resurvey of a portion of the First Standard Parallel North, the dependent resurvey of a portion of the First Standard Parallel North, the dependent resurvey of a portion of the east boundary, the corrective dependent resurvey of a portion of the subdivisional lines, the dependent resurvey of a portion of the subdivisional lines and a portion of the 1879 meanders of Henrys Fork of the Snake River, and the subdivision of certain sections, certain metes-and-bounds surveys within sections 27 and 35, and the survey of the 2000 meanders of Henrys Fork of the Snake River in section 36, in T. 6 N., R. 38 E., Boise Meridian, Idaho, were accepted August 28, 2002.

The plat representing the dependent resurvey of portions of the west and north boundaries, and portions of the subdivisional lines, and the subdivision of sections 5, 6, and 7, in T. 14 ., R. 26 E., Boise Meridian, Idaho, was accepted August 30, 2002.

The plat representing the dependent resurvey of a portion of the west boundary and a portion of the subdivisional lines, and the subdivision of section 31, in T. 3 N., R. 25 E., Boise Meridian, Idaho, was accepted September 4, 2002.

The plat representing the dependent resurvey of a portion of the subdivisional lines, and the subdivision of sections 23, 26, and 34, in T. 6 S., R. 24 E., Boise Meridian, Idaho, was accepted September 6, 2002.

This survey was executed at the request of the Bureau of Indian Affairs for administrative management purposes. The land surveyed is:

The plat representing the dependent resurvey of a portion of the east boundary and subdivisional lines, the subdivision of section 24, and the survey of the 2001 meanders of the Blackfoot River, the north boundary of the Fort Hall Indian Reservation, and portions of the 2001 median line of the Blackfoot River in section 24, in T. 3 S., R. 34 E., Boise Meridian, Idaho, was accepted August 15, 2002.

Dated: October 11, 2002.
Harry K. Smith,
Acting, Chief Cadastral Surveyor for Idaho.

[FR Doc. 02-26659 Filed 10-18-02; 8:45 am]

BILLING CODE 4310-GG-P